DEPARTMENT OF THE TREASURY

Submission for OMB Review; Comment Request

July 22, 2014.

The Department of the Treasury will submit the following information collection request to the Office of Management and Budget (OMB) for review and clearance in accordance with the Paperwork Reduction Act of 1995, Public Law 104-13, on or after the date of publication of this notice.

DATES: Comments should be received on or before August 25, 2014 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8140, Washington, DC 20220, or email at PRA@treasury.gov.

FOR FURTHER INFORMATION CONTACT: Copies of the submission(s) may be obtained by emailing PRA@treasury.gov, calling (202) 927-5331, or viewing the entire information collection request at www.reginfo.gov.

Financial Crimes Enforcement Network (FinCEN)

OMB Number: 1506-0018.

Type of Review: Extension without change of a currently approved collection.

Title: Report of Cash Payment Over $10,000 Received in a Trade or Business.

Form: 8300.

Abstract: Anyone in a trade or business who, in the course of such trade or business, receives more than $10,000 in cash or foreign currency in one or more related transactions must report it to FinCEN and provide a statement to the payor. Any transaction which must be reported under Title 31 on FinCEN Form 112 (BCTR) is exempted from reporting the same transaction on Form 8300. The USA Patriot Act of 2001 (Pub. L. 107-56) authorized the Financial Crimes Enforcement Network to collect the information reported on Form 8300.

Affected Public: Private Sector: Businesses or other for-profit organizations.

Estimated Annual Burden Hours: 114,000.

Dawn D. Wolfgang,
Treasury PRA Clearance Officer.

[FR Doc. 2014-17523 Filed 7-24-14; 8:45 am]

BILLING CODE 4810-02-P